DEPARTMENT OF DEFENSE

Office of the Secretary

[Docket ID: DOD-2020-OS-0109]

Proposed Collection; Comment Request

Correction

In Notice Document 2020-29208, appearing on pages 529-530, in the issue of Wednesday, January 6, 2021, make the following correction:

On page 529, in the third column, in the heading titled DATES, the entry “April 1, 2021” should read “March 8, 2021”.

[FR Doc. C1-2020-29208 Filed 1-27-21; 8:45 am]

BILLING CODE 1301-00-D